DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Value of the Research in the Olympic Coast and Stellwagen Bank National Marine Sanctuaries.

OMB Control Number: 0648-xxxx.

Form Number(s): None.

Type of Request: Regular (request for a new information collection).

Number of Respondents: 106.

Average Hours Per Response: 15 minutes.

Burden Hours: 27.

Needs and Uses: This request is for a new information collection.

NOAA is conducting research to: (1) Identify if the sanctuary helps to attract research or creates value-added to researchers; (2) estimate the economic impacts (jobs, income, output) supported by research that occurs in sanctuaries because of expenditures occurring within local region. Two sites, Olympic Coast National Marine Sanctuary (OCNMS) and Stellwagen Bank National Marine Sanctuary (SBNMS) will be evaluated. The information will aide in SBNMS and OCNMS condition reports. Further, the research will help to provide baseline data for economic impact and contribution of sanctuaries to local area economies.

The required information will involve surveys of researchers (from profit, non-profit and government agencies including local, state, federal and tribal). Information will be obtained on expenditures, sources of funds, non-market value, type of research, technologies used, use of NOAA equipment, reasons for the chosen location, and the researcher's involvement with sanctuary staff.

ONMS will work to identify all researchers who worked within the sanctuary within the past ten years. This will be the population of interest. Sanctuary site staff, literature reviews and the research permit database will be used to identify the population of researchers for each site.

Affected Public: Business or other for-profit; not-for-profit institutions; state, local or tribal government; federal government.

Frequency: Annually.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 14, 2017.
Sarah Brabson,
NOAA PRA Clearance Officer.

[FR Doc. 2017-24989 Filed 11-16-17; 8:45 am]

BILLING CODE 3510-NK-P